NATIONAL FOUNDATION ON THE ARTS AND THE HUMANITIES

Institute of Museum and Library Services; Cooperative Agreement to Study User Satisfaction With Access to Government Information and Services at Public Libraries and Public Access Computing Centers

AGENCY: Institute of Museum and Library Services (IMLS), NFAH.

ACTION: Notification of availability.

SUMMARY: The Institute of Museum and Library Services (IMLS) is requesting proposals leading to one (1) award of a Cooperative Agreement to Study User Satisfaction with Access to Government Information and Services at Public Libraries and Public Access Computing Centers. This study will explore how the part of the population with limited access to Internet resources (individuals who do not have broadband access from home, work, or school; who choose to access government services and information from locations other than home, work, or school; or who do so through traditional means of access) accesses services and information from the Federal, State, and local governments and whether such users are satisfied with the information and services they are able to access. The study will also examine the ways that public libraries and public access computing centers provide assistance (e.g., reference services, tutorials, classes, training) to users seeking information and services from the Federal, State, and local governments. Eligible organizations include all types of libraries except Federal and for-profit libraries. Eligible libraries include public, school, academic, special, private (not-for-profit), archives, library agencies, and library consortia. In addition, research libraries that give the public access to services and materials suitable for scholarly research not otherwise available to the public and that are not part of a university or college are eligible. Institutions of higher education, including public and not-for-profit universities and colleges, are also eligible. Graduate schools of library and information science may apply as part of an institution of higher education. The Cooperative Agreement will be for up to 2 years. The award amount will be up to $500,000. Those interested in receiving the Program Solicitation should see the address and contact information below.

DATES: This Program Solicitation is scheduled for release and posting on the Internet on approximately May 20, 2005. Proposals shall be due on July 19, 2005. Awards will be announced by September 30, 2005.

ADDRESSES: The Program Solicitation will be posted to the Institute's Web site at http://www.imls.gov/whatsnew/current/access_study.htm on approximately May 20, 2005. Requests for the Program Solicitation should be addressed to Martha Crawley, Program Officer, Office of Library Services, Institute of Museum and Library Services, 1800 M Street, NW., 9th Floor, Washington, DC 20036-5802, telephone: 202-653-4667, e-mail: mcrawley@imls.gov.

FOR FURTHER INFORMATION CONTACT: Martha Crawley, Program Officer, Office of Library Services, Institute of Museum and Library Services, 1800 M Street, NW., 9th Floor, Washington, DC 20036-5802, telephone: 202-653-4667, e-mail: mcrawley@imls.gov.

Dated: May 17, 2005.
Rebecca Danvers,
Director of Research and Technology.

[FR Doc. 05-10100 Filed 5-19-05; 8:45 am]

BILLING CODE 7036-01-M